DEPARTMENT OF COMMERCE

International Trade Administration

[A-570-880]

Barium Carbonate from the People's Republic of China: Continuation of Antidumping Duty Order

AGENCY: Import Administration, International Trade Administration, Department of Commerce.

SUMMARY: As a result of the determinations by the Department of Commerce (“Department”) and the International Trade Commission (“ITC”) that revocation of the existing antidumping duty (“AD”) order on barium carbonate from the People's Republic of China (“PRC”) would likely lead to continuation or recurrence of dumping and material injury to an industry in the United States within a reasonably foreseeable time, the Department is publishing this notice of continuation of the AD order.

EFFECTIVE DATE: March 17, 2009.

FOR INFORMATION CONTACT: Hallie Noel Zink at 202-482-6907; AD/CVD Operations, Import Administration, International Trade Administration, U.S. Department of Commerce, 14th Street and Constitution Avenue, NW, Washington, DC 20230.

SUPPLEMENTARY INFORMATION:

Background

On September 2, 2008, the Department initiated a sunset review of the antidumping duty order on barium carbonate from the PRC pursuant to section 751(c) of the Tariff Act of 1930, as amended (“Act”). See Initiation of Five-year (“Sunset”) Review, 73 FR 51275 (September 2, 2008); see also Antidumping Duty Order: Barium Carbonate from the People's Republic of China, 68 FR 56619 (October 1, 2003). As a result of its review, the Department found that revocation of this AD order would likely lead to continuation or recurrence of dumping and notified the ITC of the margins likely to prevail were the order revoked. See Barium Carbonate from the People's Republic of China: Final Results of the Expedited Sunset Review of the Antidumping Duty Order, 74 FR 882 (January 9, 2009). On January 21, 2009, the ITC determined, pursuant to section 751(c) of the Act, that revocation of the AD order on barium carbonate from the PRC would likely lead to continuation or recurrence of material injury to an industry in the United States within a reasonably foreseeable time. See Barium Carbonate From China, 74 FR 10278 (March 10, 2000); and Barium Carbonate from China: Investigation No. 731-TA-1020 (Review), ITC Publication 4060 (January 2009).

Scope of the Order

The merchandise covered by this order is barium carbonate, regardless of form or grade. The product is currently classifiable under subheading 2836.60.0000 of the Harmonized Tariff Schedule of the United States (“HTSUS”). Although the HTSUS subheading is provided for convenience and customs purposes, the written description of the scope of this proceeding is dispositive.

Continuation of Order

As a result of the determinations by the Department and the ITC that revocation of the AD order on barium carbonate from the PRC would likely lead to continuation or recurrence of dumping and material injury to an industry in the United States, pursuant to section 751(d)(2) of the Act, the Department hereby orders the continuation of the AD order on barium carbonate from the PRC. U.S. Customs and Border Protection will continue to collect AD cash deposits at the rates in effect at the time of entry for all imports of subject merchandise. This review covers imports from all manufacturers and exporters of barium carbonate from the PRC.

The effective date of continuation of this AD order will be the date of publication in the Federal Register of this notice. Pursuant to section 751(c)(2) of the Act, the Department intends to initiate the next five-year review of these orders not later than February 2013. See also 19 CFR 351.218(c)(2).

This five-year (“sunset”) review and notice are in accordance with section 751(c) of the Act and published pursuant to section 777(i)(1) of the Act.

Dated: March 10, 2009.
John M. Andersen,
Acting Deputy Assistant Secretary for Antidumping and Countervailing Duty Operations.

[FR Doc. E9-5743 Filed 3-16-09; 8:45 am]

BILLING CODE 3510-DS-S